NATIONAL AERONAUTICS AND SPACE ADMINISTRATION

[Notice (06-039)]

NASA Advisory Council; Science Committee; Science Subcommittees; Meeting

AGENCY: National Aeronautics and Space Administration.

ACTION: Notice of meeting.

SUMMARY: The National Aeronautics and Space Administration (NASA) announces a meeting of the Science Subcommittees of the NASA Advisory Council (NAC). These Subcommittees report to the Science Committee of the NAC. The meeting will be held for the purpose of soliciting from the scientific community and other persons scientific and technical information relevant to program planning.

DATES: Thursday, July 6, 2006, 8:30 a.m. to 5:30 p.m. and Friday, July 7, 2006, 8:30 a.m. to 5:30 p.m., Eastern Daylight Time.

ADDRESSES: Loews L'Enfant Plaza Hotel, 480 L'Enfant Plaza, SW., Washington, DC 20024.

FOR FURTHER INFORMATION CONTACT: Ms. Marian Norris, Science Mission Directorate, NASA Headquarters, Washington, DC 20546, (202) 358-4452, fax (202) 358-4118, or mnorris@nasa.gov.

SUPPLEMENTARY INFORMATION: The meeting will feature plenary session information briefings by NASA officials on science program status and plans including Lunar science planning. The plenary session will subsequently break out into meetings of the Astrophysics Subcommittee, Earth Science Subcommittee, Heliophysics Subcommittee, Planetary Sciences Subcommittee, and Planetary Protection Subcommittee. The breakout sessions will focus on: (1) Lunar Science Workshop Planning, and (2) the NASA Science Plan.

The meeting will be open to the public up to the seating capacity of the rooms. Thirty minutes will be set aside for verbal comment by members of the general public, not to exceed three minutes per speaker, at 8:30 a.m. on July 7, 2006. Those wishing to speak must sign up at the meeting registration desk by 5:30 p.m. on July 6, 2006. Members of the public are also welcome to file a written statement at the time of the meeting. Statements may also be submitted in advance of the meeting via e-mail or fax to Ms. Norris. Statements collected in advance will be forwarded to the appropriate Subcommittee. To facilitate consideration of the comments provided, statements should be kept to two pages.

Findings and recommendations developed by the Subcommittees during their meetings will be submitted to the Science Committee of the NAC.

It is imperative that the meeting be held on these dates to accommodate the scheduling priorities of the key participants. Attendees will be requested to sign a visitor's register.

Dated: June 8, 2006.
P. Diane Rausch,
Advisory Committee Management Officer, National Aeronautics and Space Administration.

[FR Doc. E6-9268 Filed 6-13-06; 8:45 am]

BILLING CODE 7510-13-P